DEPARTMENT OF JUSTICE

Antitrust Division

Notice Pursuant to the National Cooperative Research and Production Act of 1993—Globus Consortium, Inc.

Notice is hereby given that, on June 10, 2004, pursuant to Section 6(a) of the National Cooperative Research and Production Act of 1993, 15 U.S.C. 4301 et seq. (“the Act”), Globus Consortium, Inc. has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are Globus Consortium, Inc., Glen Ellyn, IL; Sun Microsystems, Inc., Santa Clara, CA; and Nortel Networks Limited, Brampton, Ontario, CANADA. The nature and objectives of the venture are to advance the promotion of, provide support for, and encourage participation in, research, development, education, technical support and standardization for a collection of software development tools used to create infrastructure for grid computing commonly known as the “Globus Toolkit,” which provides enabling technology for grid computing.

Dorothy B. Fountain,
Deputy Director of Operations, Antitrust Division.

[FR Doc. 04-15459 Filed 7-7-04; 8:45 am]

BILLING CODE 4410-11-M